DEPARTMENT OF TRANSPORTATION

Federal Aviation Administration

FAA Approval Of Noise Compatibility Program 14 CFR Part 150; Baltimore/Washington International Thurgood Marshall Airport; Baltimore, MD

AGENCY: Federal Aviation Administration, DOT.

ACTION: Notice.

SUMMARY: The Federal Aviation Administration (FAA) announces its findings on the noise compatibility program submitted by Maryland Aviation Administration (MAA) under the provisions of 49 U.S.C. (the Aviation Safety and Noise Abatement Act, hereinafter referred to as “the Act”) and 14 CFR Part 150. These findings are made in recognition of the description of Federal and nonfederal responsibilities in Senate Report No. 96-52 (1980). On April 3, 2006, the FAA determined that the noise exposure maps submitted by MAA under Part 150 were in compliance with applicable requirements. On February 26, 2008, the FAA approved the Baltimore/Washington International Thurgood Marshall Airport noise compatibility program update. All of the recommendations of the program were approved.

EFFECTIVE DATE: The effective date of the FAA's approval of the Baltimore/Washington International Thurgood Marshall Airport noise compatibility program update is February 26, 2008.

FOR FURTHER INFORMATION CONTACT: Jennifer Mendelsohn, Eastern Region, Washington Airports District Office, Federal Aviation Administration, 23723 Air Freight Lane, Suite 210, Dulles, Virginia 20166, Telephone: 703-661-1362. Documents reflecting this FAA action may be reviewed at this same location.

SUPPLEMENTARY INFORMATION: This notice announces that the FAA has given its overall approval to the noise compatibility program for Baltimore/Washington International Thurgood Marshall Airport, effective February 26, 2008.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where federal funding is sought, requests for project grants must be submitted to the FAA Airports District Office in Dulles, Virginia.

MAA submitted to the FAA on October 1, 2007, the noise exposure maps, descriptions, and other documentation produced during the noise compatibility planning study conducted from January 2003 through December 2003. The Baltimore/Washington International Thurgood Marshall Airport noise exposure maps were determined by FAA to be in compliance with applicable requirements on April 3, 2006. Notice of this determination was published in the Federal Register on April 17, 2006 (71 FR 19782).

The Baltimore/Washington International Thurgood Marshall Airport study contains a proposed noise compatibility program comprised of actions designed for phased implementation by airport management and adjacent jurisdictions from February 2008 to (or beyond) the year 2010. It was requested that the FAA evaluate and approve this material as a noise compatibility program as described in section 47504 of the Act. The FAA began its review of the program on October 18, 2007 and was required by a provision of the Act to approve or disapprove the program within 180 days. Failure to approve or disapprove such program within the 180-day period shall be deemed to be an approval of such program.

The submitted program contained four (4) proposed actions for noise mitigation on and off the airport. The FAA completed its review and determined that the procedural and substantive requirements of the Act and FAR Part 150 have been satisfied. The overall program, therefore, was approved by the FAA effective February 26, 2008.

Outright approval was granted for four Noise Abatement Measures. The approved measures included such items as: Update the noise rule for Runway 15L/33R; Voluntary residential property acquisition; Homeowners assistance program and Noise Monitoring System.

These determinations are set forth-in detail in the Record of Approval signed by the Division Manager on February 26, 2008. The Record of Approval, as well as other evaluation materials and the documents comprising the submittal, are available for review at the FAA office listed above and at the administrative offices of the MAA. The Record of Approval also will be available on-line at: http://www.faa.gov/airports_airtraffic/airports/environmental/airport_noise/.

Issued in Dulles, Virginia on February 26, 2008.
Terry J. Page,
Manager, Washington Airports District Office.

[FR Doc. E8-4938 Filed 3-13-08; 8:45 am]

BILLING CODE 4910-13-M